DEPARTMENT OF TRANSPORTATION

Maritime Administration

Assistance to Small Shipyards Grant Program

AGENCY: Maritime Administration, Department of Transportation, Office of Shipyards and Marine Financing.

ACTION: Amendment to Notice of Establishment of New Grant Program.

Catalog of Federal Domestic Assistance Number: 20.814.

FOR FURTHER INFORMATION CONTACT: Jean E. McKeever, Associate Administrator for Business and Workforce Development, Maritime Administration, 1200 New Jersey Ave., SE., Washington, DC 20590; phone: (202) 366-5737; fax: (202) 366-3511; or e-mail: jean.mckeever@dot.gov.

Background: By notice in the Federal Register dated January 10, 2008 (Vol. 73, No. 7, PP. 1912-1913), the Maritime Administration announced the establishment of a new grant program to provide assistance to small shipyards. The notice stated that the grants are for “* * * capital improvements, and related infrastructure improvements at qualified shipyards that will facilitate the efficiency, cost-effectiveness, and quality of domestic ship construction for commercial and Federal Government use.” The notice also specified information that should be provided in a grant application. Item No. 4 asks in part for information as to how the proposed project “ * * * will facilitate the efficiency, cost-effectiveness, and quality of domestic ship construction for commercial and Federal Government use.” Item No. 7 asks for “most recent audited financial statements.”

Amendment: In order to properly reflect the scope of Congressional intent in authorizing the small shipyard assistance program in Section 3506 of the National Defense Authorization Act for Fiscal Year 2006 (Pub. L. 109-163), the description of the grant program set forth above is amended to read that the grants are for “* * * capital improvements, and related infrastructure improvements at qualified shipyards that will facilitate the efficiency, cost-effectiveness, and quality of domestic ship construction, ship conversion and/or ship repair for commercial and Federal Government use.” Item No. 4 is amended in pertinent part to request information concerning how the project “* * * will facilitate the efficiency, cost-effectiveness, and quality of domestic ship construction, ship conversion, and/or ship repair for commercial and Federal Government use.”

Because many small shipyards do not have audited financial statements, Item No. 7 is amended to add at the end the following sentence: “If audited financial statements are not available, compiled financial statements by an independent Certified Public Accountant should be submitted.”

All other terms, conditions and deadline dates remain as set forth in the January 10, 2008 Federal Register Notice.

(Authority: 49 CFR 1.66.)

Dated: February 8, 2008.
By Order of the Maritime Administrator.
Murray A. Bloom,
Acting Secretary, Maritime Administration.

[FR Doc. E8-2661 Filed 2-12-08; 8:45 am]

BILLING CODE 4910-81-P